DEPARTMENT OF THE INTERIOR

Office of Surface Mining and Reclamation

30 CFR Part 779

Surface Mining Permit Applications

CFR Correction

In Title 30 of the Code of Federal Regulations, Part 700 to End, revised as of July 1, 2018, on page 229, the designation “§ 779.25 [Reserved]” is removed.

[FR Doc. 2018-23315 Filed 10-23-18; 8:45 am]

BILLING CODE 1301-00-D